FEDERAL MINE SAFETY AND HEALTH REVIEW COMMISSION

Sunshine Act Meeting

January 10, 2014

TIME AND DATE: 10:00 a.m., Thursday, January 30, 2014.

PLACE: The Richard V. Backley Hearing Room, Room 511N, 1331 Pennsylvania Avenue NW., Washington, DC 20004 (entry from F Street entrance).

STATUS: Open.

MATTERS TO BE CONSIDERED: The Commission will hear oral argument in the following matters: Secretary of Labor v. Twentymile Coal Co., Docket Nos. WEST 2009-241, et al., and Secretary of Labor v. Twentymile Coal Co., Docket Nos. WEST 2009-1323, et al. (Issues include whether the Administrative Law Judge erred in affirming citations for failing to provide additional insulation for a communications circuit.)

Any person attending this oral argument who requires special accessibility features and/or auxiliary aids, such as sign language interpreters, must inform the Commission in advance of those needs. Subject to 29 CFR 2706.150(a)(3) and 2706.160(d).

CONTACT PERSON FOR MORE INFORMATION: Jean Ellen (202) 434-9950/(202) 708-9300 for TDD Relay/1-800-877-8339 for toll free.

Emogene Johnson,
Administrative Assistant.

[FR Doc. 2014-00749 Filed 1-13-14; 4:15 pm]

BILLING CODE 6735-01-P